DEPARTMENT OF STATE

[Public Notice 8271]

Notice of the Next CAFTA-DR Environmental Affairs Council Meeting

AGENCY: Department of State.

ACTION: Notice of the CAFTA-DR Environmental Affairs Council Meeting and request for comments.

SUMMARY: The Department of State and the Office of the United States Trade Representative are providing notice that the government parties to the Dominican Republic-Central America-United States Free Trade Agreement (CAFTA-DR) intend to hold the seventh meeting of the Environmental Affairs Council (Council) established under Chapter 17 of that agreement in Santo Domingo, Dominican Republic on May 9, 2013 at a venue to be announced. All interested persons are invited to attend a public session beginning at 2:00 p.m. on May 9.

During the meeting, each Council Member will present its country's progress in implementing Chapter 17 obligations and the impacts of environmental cooperation in their respective countries. The Council will also receive a presentation from the CAFTA-DR Secretariat for Environmental Matters (SEM). For the public session of the meeting, the Council will highlight issues from the above discussion elements with a particular focus on Chapter 17 obligations and environmental cooperation successes.

All interested persons are invited to attend a public session where they will have the opportunity to ask questions and discuss implementation of Chapter 17 and environmental cooperation with Council Members. In addition, the SEM will present on the public submission process established under Chapter 17. More information on the Council is included below under Supplementary Information.

The Department of State and Office of the United States Trade Representative invite written comments or suggestions regarding the meeting. In preparing comments, we encourage submitters to refer to Chapter 17 of the CAFTA-DR, the Final Environmental Review of the CAFTA-DR and the Agreement among the CAFTA-DR countries on Environmental Cooperation (ECA) (all documents available at http://www.state.gov/e/oes/env/trade/caftadr/index.htm).

DATES: The Council will hold the meeting on May 9, 2013, in Santo Domingo. If you are interested in attending, please email Abby Lindsay at LindsayA@state.gov for the specific time and place. To be assured of timely consideration, all written comments or suggestions are requested no later than April 19, 2013.

ADDRESSES: Written comments or suggestions should be submitted to both: (1) Abby Lindsay, U.S. Department of State, Bureau of Oceans and International Environmental and Scientific Affairs, Office of Environmental Quality and Transboundary Issues by email to LindsayA@state.gov with the subject line “CAFTA-DR EAC Meeting” or by fax to (202) 647-5947; and (2) Sarah Stewart, Director for Environment and Natural Resources, Office of the United States Trade Representative by email to Sarah_Stewart@ustr.eop.gov with the subject line “CAFTA-DR EAC Meeting” or by fax to (202) 395-9517. If you have access to the Internet you can view and comment on this notice by going to: http://www.regulations.gov/#!home and searching on docket number DOS-2013-0009.

FOR FURTHER INFORMATION, CONTACT: Abby Lindsay, (202) 647-8772 or Sarah Stewart, (202) 395-3858.

SUPPLEMENTARY INFORMATION: Article 17.5 of the CAFTA-DR establishes an Environmental Affairs Council (the Council). Article 17.5 requires the Council to meet to oversee the implementation of, and review progress under, Chapter 17. Article 17.5 further requires, unless the governments otherwise agree, that each meeting of the Council include a session in which members of the Council have an opportunity to meet with the public to discuss matters relating to the implementation of Chapter 17.

In Article 17.9 of the CAFTA-DR, the governments recognize the importance of strengthening capacity to protect the environment and to promote sustainable development in concert with strengthening trade and investment relations and state their commitment to expanding their cooperative relationship on environmental matters. Article 17.9 also references the ECA, which sets out certain priority areas of cooperation on environmental activities that are also reflected in Annex 17.9 of the CAFTA-DR. These priority areas include, among other things: Reinforcing institutional and legal frameworks and the capacity to develop, implement, administer, and enforce environmental laws, regulations, standards and policies; conserving and managing shared, migratory and endangered species in international trade and management of protected areas; promoting best practices leading to sustainable management of the environment; and facilitating technology development and transfer and training to promote clean production technologies. The public is advised to refer to the State Department Web site at http://www.state.gov and the USTR Web site at www.ustr.gov for more information.

Disclaimer: This Public Notice is a request for comments and suggestions, and is not a request for applications. No granting of money is directly associated with this request for suggestions on the Council meeting agenda. There is no expectation of resources or funding associated with any comments or suggestions.

Dated: April 8, 2013.
George N. Sibley,
Director, Office of Environmental Quality and Transboundary Issues, U.S. Department of State.

[FR Doc. 2013-08507 Filed 4-10-13; 8:45 am]

BILLING CODE 4710-09-P